DEPARTMENT OF HOMELAND SECURITY

[Docket Number DHS 2006-0071]

Privacy Office; Privacy Impact Assessments Approved between June 1, 2006 and September 30, 2006

AGENCY: Privacy Office, Office of the Secretary, Department of Homeland Security.

ACTION: Notice of Publication of Privacy Impact Assessments.

SUMMARY: The Privacy Office of the Department of Homeland Security is making available ten Privacy Impact Assessments on various programs and systems in the Department. These assessments were approved and published on the Privacy Office's Web site between June 1, 2006 and September 30, 2006.

DATES: The Privacy Impact Assessments will be available on the DHS Web site until at least January 23, 2007, after which they may be obtained by contacting the DHS Privacy Office.

FOR FURTHER INFORMATION CONTACT: Hugo Teufel III, Chief Privacy Officer, Department of Homeland Security, Washington, DC 20528; by telephone (571) 227-3813, facsimile (571) 227-4171, or e-mail: privacy@dhs.gov.

SUPPLEMENTARY INFORMATION: Between June 1, 2006 and September 30, 2006, the Chief Privacy Officer of the Department of Homeland Security (DHS) approved and published ten Privacy Impact Assessments (PIAs) on the DHS Privacy Office Web site, http://www.dhs.gov/privacy, under the link for “Privacy Impact Assessments.” Below is a short summary of each of those systems, indicating the DHS component responsible for the system, and the date on which the PIA was approved. Additional information can be found on the web site or by contacting the Privacy Office.

1. Rail Security Pilot Study Phase II (RSP)

Science and Technology Directorate

July 12, 2006: The objective of RSP is to develop a credible “response package” that could be quickly and efficiently implemented in response to an event or as the result of intelligence indicating a possible threat exists where explosives would be used in a commuter rail or mass transit venue. The RSP is divided into two phases. Phase I, conducted in February 2006, did not require the collection of personally identifiable information and evaluated existing countermeasures using aviation security methods that could be implemented immediately. Phase II is evaluating emerging technologies with varying technological maturity.

2. US-Visit Update

United States Visitor And Immigrant Status Indicator Technology Program (US-VISIT)

July 12, 2006: This is an update to previous US-VISIT PIAs in order to describe the expansion of the program's biometric collection requirements. The expanded biometric requirements cover additional classes of aliens in conjunction with the Notice of Proposed Rulemaking on the Authority to Process Additional Aliens in US-VISIT.

3. Automated Commercial Environment (ACE) e-Manifest: Trucks and International Trade Data System (ITDS)

U.S. Customs And Border Protection (CBP)

July 14, 2006: CBP is engaged in a multi-year modernization effort to update its information systems. The purposes of ACE are to: streamline business processes; facilitate growth in trade; ensure cargo security; provide means to combat terrorism through monitoring what materials and which persons enter and leave the country; and foster participation in global commerce, while ensuring compliance with U.S. laws and regulations. To build on existing infrastructure, ACE will use ITDS to share electronic international trade and transportation data with participating Federal agencies.

4. Visitor Management System (VMS)

Transportation Security Administration (TSA)

July 14, 2006: TSA's Office of Security has established a Security Appointment Center (SAC), which will utilize VMS. VMS is a system by which computerized visitor logs will be generated and temporary self-expiring paper badges will be issued for all visitors entering the TSA Headquarters Buildings and the Transportation Security Operations Center.

5. Automated Biometric Identification System (IDENT)

US-VISIT

July 31, 2006: This PIA describes changes to IDENT corresponding to the publication of a new IDENT system of records notice. IDENT is a Department of Homeland Security wide system for the collection and processing of biometric and limited biographic information for DHS national security, law enforcement, immigration, intelligence and other DHS mission-related functions and to provide associated testing, training, management reporting, planning and analysis, or other administrative uses.

6. Western Hemisphere Travel Initiative (WHTI)

CBP

August 10, 2006: U.S. Customs and Border Protection, Department of Homeland Security, in conjunction with the Bureau of Consular Affairs, Department of State, is publishing a notice of proposed rule making to implement WHTI. The air/sea requirements of WHTI are the first phase in the implementation of new passport requirements for certain travelers to, and from, the United States as defined in the Intelligence Reform and Terrorism Prevention Act of 2004. WHTI will expand the group from which passport and travel information will be collected from affected travelers.

7. ePassport Program

US-VISIT

August 18, 2006: This is an update to previous US-VISIT PIAs to address the changes to the port of entry processing that will result from the deployment of the capability to biometrically compare and authenticate RFID chip-enabled, International Civil Aviation Organization (ICAO)-compliant passports (e-Passports).

8. Office of Transportation Redress

TSA

August 31, 2006: The TSA Traveler Identity Verification Program was developed as a voluntary program by TSA to provide a forum for individuals who believe they have been unfairly or incorrectly delayed, denied boarding, or identified for additional screening at our Nation's airports to request redress. Responsibility for the program lies in TSA's Office of Transportation Security Redress.

9. Interim Data Sharing Model (IDSM)

US-VISIT

September 1, 2006: Interim Data Sharing Model for the Automated Biometric Identification System (IDENT)/Integrated Automated Fingerprint Identification System (IAFIS) Interoperability Project. As anticipated under the External Data Sharing section of the IDENT PIA, this document discusses the sharing of data between IDENT and the Federal Bureau of Investigation (FBI) Criminal Justice Information Service (CJIS) Division's IAFIS. FBI/CJIS provides criminal history information to Federal, state, and local law enforcement agencies. The FBI completed its own PIA on the data it shares with IDENT. Therefore, this PIA discusses only the DHS sharing of IDENT data with the FBI/CJIS.

10. Registered Traveler

TSA

September 1, 2006: Pursuant to TSA's authority to operate trusted traveler programs and following two sets of pilot programs, TSA is conducting the next phase of Registered Traveler at approximately 10-20 participating airports to further test and evaluate this type of trusted passenger program. This phase introduces interoperability among participating airports/air carriers and operating with larger populations.

Dated: November 15, 2006.
Hugo Teufel III,
Chief Privacy Officer.

[FR Doc. E6-19885 Filed 11-22-06; 8:45 am]

BILLING CODE 4410-10-P